DEPARTMENT OF COMMERCE

National Institute of Standards and Technology

Announcing a Meeting of the Information Security and Privacy Advisory Board (Formerly the Computer System Security and Privacy Advisory Board)

AGENCY: National Institute of Standards and Technology, DOC.

ACTION: Notice of meeting.

SUMMARY: Pursuant to the Federal Advisory Committee Act, 5 U.S.C. App., notice is hereby given that the Information Security and Privacy Advisory Board (ISPAB) (formerly known as the Computer System Security and Privacy Advisory Board (CSSPAB)) will meet Tuesday, March 11, 2003, from 8:30 a.m. until 5 p.m., Wednesday, March 12, 2003, from 8:30 a.m. until 5 p.m. and on Thursday, March 13, from 8:30 a.m. until 2 p.m. All sessions will be open to the public. The Advisory Board was established by the Computer Security Act of 1987 (Pub. L. 100-235) and amended by the Federal Information Security Management Act of 2002 (Pub. L. 107-347) to advise the Secretary of Commerce and the Director of NIST on security and privacy issues pertaining to federal computer systems. Details regarding the Board's activities are available at http://csrc.nist.gov/csspab/.

DATES: The meeting will be held on March 11, 2003, from 8:30 a.m. until 5 p.m., March 12, 2003, from 8:30 a.m. until 5 p.m., and March 13, 2003, from 8:30 a.m. until 2 p.m.

ADDRESSES: The meeting will take place at the Bethesda Hyatt Regency Hotel, 7400 Wisconsin Avenue (One Bethesda Metro Center), Bethesda, MD 20814.

Agenda

—Welcome and Overview

—ISPAB Work Plan Updates

—Development of E-Authentication Panel Agenda

—NIST Information Technology Laboratory Briefings

—Update by OMB on Privacy and Security Issues

—Briefing on Agency GPEA Implementation

—Update on USPS Business Impact Assessment Project

—Agenda Development for June 2003 ISPAB Meeting

—Wrap-Up

Note that agenda items may change without notice because of possible unexpected schedule conflicts of presenters.

Public Participation: The Board agenda will include a period of time, not to exceed thirty minutes, for oral comments and questions from the public. Each speaker will be limited to five minutes. Members of the public who are interested in speaking are asked to contact the Board Secretariat at the telephone number indicated below. In addition, written statements are invited and may be submitted to the Board at any time. Written statements should be directed to the ISPAB Secretariat, Information Technology Laboratory, 100 Bureau Drive, Stop 8930, National Institute of Standards and Technology, Gaithersburg, MD 20899-8930. It would be appreciated if 35 copies of written material were submitted for distribution to the Board and attendees no later than March 7, 2003. Approximately 15 seats will be available for the public and media.

FOR FURTHER INFORMATION CONTACT: Ms. Joan Hash, Board Secretariat, Information Technology Laboratory, National Institute of Standards and Technology, 100 Bureau Drive, Stop 8930, Gaithersburg, MD 20899-8930, telephone: (301) 975-3357.

Dated: February 20, 2003.
Karen H. Brown,
Deputy Director.

[FR Doc. 03-4744 Filed 2-27-03; 8:45 am]

BILLING CODE 3510-CN-P